DEPARTMENT OF DEFENSE

Office of the Secretary of Defense

Notification of Cancellation of Meeting of the Defense Advisory Board for Employer Support of the Guard and Reserve (DAB-ESGR)

AGENCY: Department of Defense.

ACTION: Notice of cancelled open meeting.

SUMMARY: This notice announces the cancellation of the meeting of the Defense Advisory Board for Employer Support of the Guard and Reserve scheduled for Thursday, September 18, 2008 (1300-1500 hrs). The meeting is cancelled due to lack of a quorum.

FOR FURTHER INFORMATION CONTACT: MAJ Elaine M. Gullotta at 703-696-1385 ext 540, or email at elaine.gullotta@osd.mil.

SUPPLEMENTARY INFORMATION: The Department of Defense announced this open meeting in a notice that was published in the Federal Register (73 FR 44973) dated August 1, 2008.

Dated: September 11, 2008.
Robert L. Cushing, Jr.,
Alternate OSD Federal Register Liaison Officer, Department of Defense.

[FR Doc. E8-21703 Filed 9-16-08; 8:45 am]

BILLING CODE 5001-06-P